DEPARTMENT OF THE INTERIOR

Bureau of Land Management

[CO-600-03-1010-BN-241A]

Notice of Public Meetings, Southwest Colorado and Northwest Colorado Resource Advisory Council Meetings

AGENCY: Bureau of Land Management, DOI.

ACTION: Notice of public meetings.

SUMMARY: In accordance with the Federal Land Policy and Management Act (FLPMA) and the Federal Advisory Committee Act of 1972 (FACA), the U.S. Department of the Interior, Bureau of Land Management (BLM), Southwest Colorado Resource Advisory Council (RAC) and Northwest Colorado RAC will meet as indicated below.

The Southwest Colorado RAC meetings will be held February 7, 2003 at the Bureau of Land Management, Western Slope Center Office located at 2465 South Townsend in Montrose, Colorado; April 11, 2003 at the Center of Southwest Colorado—Ft. Lewis College located at 1000 Rim Drive in Durango, Colorado; June 27, 2003 at the Paonia Community Center located at 214 Grand in Paonia, Colorado; and August 8, 2003 at the Land Use Dept. Conference Room located at 110 Mall Road in Ridgway, Colorado.

The Northwest Colorado RAC meeting will be held February 21, 2003 at the Holiday Inn located at 755 Horizon Drive in Grand Junction, Colorado.

Both the Southwest and Northwest Colorado RAC meetings will begin at 9 a.m. and adjourn at approximately 4 p.m. Public comment periods at the meetings will be in the morning at 9:30 a.m. and in the afternoon, to start no later than 3 p.m.

DATES: Southwest Colorado RAC meetings are February 7, 2003, April 11, 2003, June 27, 2003, and August 8, 2003; Northwest Colorado RAC meeting is February 21, 2003.

FOR FURTHER INFORMATION CONTACT: Larry J. Porter, RAC Coordinator, Bureau of Land Management, 2815 H Road, Grand Junction, Colorado 81506; Telephone (970) 244-3012.

SUPPLEMENTARY INFORMATION: The Southwest and Northwest Colorado RACs advise the Secretary of the Interior, through the Bureau of Land Management, on a variety of planning and management issues associated with public land management in Colorado.

Purpose of the Southwest Colorado RAC February 7, 2003 meeting is to consider several resource management related topics including: RAC Goals and Priorities, Coal Bed Methane Development, Gunnison Gourge National Conservation Area planning update, and Canyon of the Ancients National Monument management update. Topics of discussion for the following Southwest Colorado RAC meetings scheduled for April 11, 2003, June 27, 2003, and August 8, 2003 will include drought issues, fire management, land use planning, weeds management, travel management, Native American consultation, wilderness, wild horse program update, land exchange proposals, cultural resources, and other issues as appropriate.

Purpose of the Northwest Colorado RAC February 21, 2003 meeting is to consider several resource management related topics including RAC Goals and Priorities, Moffat County Pilot Project update, Committee reports and/or actions, Standards for Public Land Health update, and Field Office Managers' and Staff presentations.

These Northwest and Southwest Colorado RAC meetings are open to the public. The public may present written comments to the RACs. Each RAC meeting will also have time, as identified above, allocated for hearing public comments. Depending on the number of persons wishing to comment and time available, the time for individual oral comments may be limited. Individuals planning to attend the meetings who need special assistance should contact the RAC Coordinator listed above.

Dated: December 20, 2002.
Larry Porter,
Acting Western Slope Center Manager.

[FR Doc. 02-32683 Filed 12-26-02; 8:45 am]

BILLING CODE 4310-JB-P